DEPARTMENT OF TRANSPORTATION

Pipeline and Hazardous Materials Safety Administration

[Docket No. PHMSA-2019-0001]

Pipeline Safety: Information Collection Activities, Gas and Liquid Pipeline Safety Program Certification

AGENCY: Pipeline and Hazardous Materials Safety Administration (PHMSA), DOT.

ACTION: Notice and request for comments.

SUMMARY: In compliance with the Paperwork Reduction Act of 1995 (44 U.S.C. 3501 et seq.), this notice announces that the information collection requests abstracted below are being forwarded to the Office of Management and Budget (OMB) for review and comment. PHMSA will request an extension with no change for the information collections identified by OMB control numbers 2137-0610, 2137-0624, and 2137-0625, which are due to expire on April 30, 2019. PHMSA will also request an extension with no change for the information collection identified by OMB Control number 2137-0589, which is due to expire on July 31, 2019. A Federal Register notice with a 60-day comment period soliciting comments on these information collections was published on February 11. 2019.

DATES: Interested persons are invited to submit comments on or before May 20, 2019.

ADDRESSES: Submit comments regarding the burden estimate, including suggestions for reducing the burden, to the Office of Management and Budget, Attention: Desk Officer for the Office of the Secretary of Transportation, 725 17th Street NW, Washington, DC 20503.

FOR FURTHER INFORMATION CONTACT: Angela Hill by telephone at 202-366-1246, by email at angela.dow@dot.gov, or by mail at DOT, PHMSA, 1200 New Jersey Avenue SE, PHP-30, Washington, DC 20590-0001.

SUPPLEMENTARY INFORMATION: Section 1320.8(d), Title 5, Code of Federal Regulations, requires PHMSA to provide interested members of the public and affected agencies an opportunity to comment on information collection and recordkeeping requests. In accordance with this regulation, on February 11, 2019, (84 FR 3278) PHMSA published a Federal Register notice with a 60-day comment period soliciting comments on the information collection. In response, PHMSA received no comments.

The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity.

1. Title: Pipeline Integrity Management in High Consequence Areas Gas Transmission Pipeline Operators.

OMB Control Number: 2137-0610.

Current Expiration Date: 4/30/2019.

Type of Request: Extension without change of a currently approved collection.

Abstract: This information collection request pertains to gas transmission operators subject to 49 CFR part 192 Subpart O—Gas Transmission Integrity Management Program. Pipeline safety regulations in § 192.907 require gas transmission operators subject to part 192 subpart O to develop and follow a written integrity management program that contains all the elements described in § 192.911. Gas transmission operators subject to these regulations must also maintain records that demonstrate compliance with subpart O, as described in § 192.947, for the life of the pipeline. PHMSA or state regulators may review the records as a part of inspections. Gas transmission operators are also required to report to PHMSA certain actions related to their integrity management program.

Affected Public: Gas transmission operators.

Annual Reporting and Recordkeeping Burden:

Estimated number of responses: 733.

Estimated annual burden hours: 1,018,807.

Frequency of collection: On occasion.

2. Title: Control Room Management/Human Factors

OMB Control Number: 2137-0624.

Current Expiration Date: 4/30/2019.

Type of Request: Extension without change of a currently approved collection.

Abstract: Sections 192.631 and 195.446 address human factors and other components of control room management. These regulations require operators of hazardous liquid pipelines and gas pipelines to develop and implement a human factors management plan designed to reduce risk associated with human factors in each control room.

Affected Public: Operators of both natural gas and hazardous liquid pipeline systems.

Annual Reporting and Recordkeeping Burden:

Estimated number of responses: 2,702.

Estimated annual burden hours: 127,328.

Frequency of Collection: On occasion.

3. Title: Pipeline Safety: Integrity Management Program for Gas Distribution Pipelines

OMB Control Number: 2137-0625.

Current Expiration Date: 4/30/2019.

Type of Request: Extension without change of a currently approved collection.

Abstract: Section 192.1005 requires operators of gas distribution pipelines to develop and implement integrity management (IM) programs. The purpose of these programs is to enhance safety by identifying and reducing pipeline integrity risks. In accordance with § 192.1011, PHMSA requires that operators maintain records demonstrating compliance with these requirements for 10 years and that these records must include superseded IM plans.

Affected Public: Operators of gas distribution pipeline systems.

Annual Reporting and Recordkeeping Burden:

Estimated number of responses: 9,343

Estimated annual burden hours: 865,178.

Frequency of collection: On occasion.

4. Title: Response Plans for Onshore Oil Pipelines.

OMB Control Number: 2137-0589.

Current Expiration Date: 7/31/2019.

Type of Request: Revision of a currently approved information collection.

Abstract: Part 194 requires an operator of an onshore oil pipeline facility to prepare and submit an oil spill response plan to PHMSA for review and approval. This revision only updates the number of respondents to accurately reflect the current usage of this collection.

Affected Public: Operators of onshore oil pipeline facilities.

Annual Reporting and Recordkeeping Burden:

Estimated number of responses: 540.

Estimated annual burden hours: 73,980.

Frequency of collection: On occasion.

Comments to OMB are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. Chapter 35, as amended; and 49 CFR 1.48.

Issued in Washington, DC on April 16, 2019, under authority delegated in 49 CFR 1.97.
John A. Gale,
Director, Standards and Rulemaking Division.

[FR Doc. 2019-07925 Filed 4-18-19; 8:45 am]

BILLING CODE 4909-60-P